DEPARTMENT OF THE TREASURY

Alcohol and Tobacco Tax and Trade Bureau

Proposed Information Collections; Comment Request

AGENCY: Alcohol and Tobacco Tax and Trade Bureau; Treasury.

ACTION: Correction to Notice and request for comments.

SUMMARY: The Alcohol and Tobacco Tax and Trade Bureau is correcting the proposed information collection notice it published in the Federal Register on June 9, 2011 at 76 FR 33811. Specifically, we are correcting the information in that notice regarding OMB No. 1513-0103. Presently, the information collection approved under OMB No. 1513-0103 covers two tobacco bond forms, which we are consolidating into a single form.

DATES: We must receive your written comments on or before October 3, 2011.

ADDRESSES: You may send comments to Mary A. Wood, Alcohol and Tobacco Tax and Trade Bureau, at any of these addresses:

• P.O. Box 14412, Washington, DC 20044-4412;

• 202-453-2686 (facsimile); or

• formcomments@ttb.gov (e-mail).

In your comment, please reference the information collection's title, form, and OMB number. If you submit your comment via facsimile, please send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-453-1039, ext. 165.

SUPPLEMENTARY INFORMATION:

The Alcohol and Tobacco Tax and Trade Bureau (TTB) is correcting the proposed information collection notice it published in the Federal Register on June 9, 2011 at 76 FR 33811. Specifically, we are correcting the information in that notice regarding OMB No. 1513-0103, which appeared at 76 FR 33813 in the third column. Presently, the information collection approved under OMB No. 1513-0103 covers two bond forms, TTB F 5200.25, Tobacco Bond—Collateral, and TTB F 5200.26, Tobacco Bond—Surety. TTB is consolidating these two bond forms into one single bond form, TTB F 5200.29, Tobacco Bond, and this consolidation should have been reflected in the June 9, 2011, notice.

Therefore, the Department of the Treasury and TTB, as part of their continuing effort to reduce paperwork and respondent burden, invite the general public and other Federal agencies to comment on the corrected information collection listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Corrected Information Collection

The text regarding the information collection approved under OMB No. 1513-0103, which appeared in the Federal Register on June 9, 2011, at 76 FR 33813, in the third column, beginning with the third paragraph, is corrected to read as follows:

Title: Tobacco Bond.

OMB Number: 1513-0103.

TTB Form Number: 5200.29.

Abstract: TTB requires a corporate surety bond or a collateral bond to ensure payment of the Federal excise tax on tobacco products and cigarette papers and tubes removed from the factory or warehouse. TTB F 5200.29 will satisfy all bond requirements for tobacco industry members. Manufacturers of tobacco products or cigarette papers and tubes and proprietors of export warehouses, along with corporate sureties, are the respondents for this form. This form reduces the number of bond forms submitted by tobacco industry members and makes the use of a single bond form consistent with all other commodities that TTB regulates.

Current Actions: We are submitting this information collection as a revision to consolidate our two current tobacco bond forms, TTB F 5200.25 and TTB F 5200.26, into one form, TTB F 5200.29. This single form will be available on our Web site, and, in early 2012, tobacco industry members will be able to file this form electronically via TTB's Permits Online (PONL) system.

Type of Review: Revision of a currently approved collection.

Affected Public: Business or other for-profit.

Estimated Number of Respondents: 66.

Estimated Total Annual Burden Hours: 86.

Dated: July 27, 2011.
Gerald Isenberg,
Director, Regulations and Rulings Division.

[FR Doc. 2011-19738 Filed 8-3-11; 8:45 am]

BILLING CODE 4810-31-P